DEPARTMENT OF HEALTH AND HUMAN SERVICES

Substance Abuse and Mental Health Services Administration

Cancellation of a Fiscal Year (FY) 1999 Funding Opportunities Notice

AGENCY: Center for Substance Abuse Treatment (CSAT), Substance Abuse and Mental Health Services Administration (SAMHSA), HHS.

ACTION: Cancellation of future application receipt dates under SAMHSA/CSAT Comprehensive Community Treatment Program (PA 99-050).

SUMMARY: This notice is to inform the public that the SAMHSA/CSAT program announcement, PA 99-050, Comprehensive Community Treatment Program, is being cancelled. Effective immediately, no new applications will be received, reviewed, or funded under this announcement.

A notice of funding opportunities under the Comprehensive Community Treatment Program was published in the Federal Register on March 8, 1999 (Vol. 64, Number 44, pages 11027-11031). Subsequent modification/clarification notices for this program were published in the Federal Register on December 13, 1999, and on April 27, 2001. This cancellation notice applies to both the original funding opportunity and to the subsequent modification/clarification notices.

Information related to this notice may be obtained from: Tom Edwards, Division of Practice and Systems Development, Center for Substance Abuse Treatment, SAMHSA, Tele: 301-443-8453, e-mail: tedwards@samhsa.gov.

Dated: February 6, 2002.
Richard Kopanda,
Executive Officer, Substance Abuse and Mental Health Services Administration.

[FR Doc. 02-3389 Filed 2-11-02; 8:45 am]

BILLING CODE 4162-20-P